DEPARTMENT OF COMMERCE

International Trade Administration

[A-822-801, A-447-801, A-451-801, A-485-601, A-842-801, A-843-801, A-844-801]

Solid Urea from Belarus, Estonia, Lithuania, Romania, Tajikistan, Turkmenistan, and Uzbekistan: Final Results and Revocation of Orders

AGENCY: Import Administration, International Trade Administration, Department of Commerce.

SUMMARY: On October 1, 2004, the Department of Commerce (“Department”) initiated the sunset reviews of the antidumping duty orders on solid urea from Belarus, Estonia, Lithuania, Romania, Tajikistan, Turkmenistan, and Uzbekistan (69 FR 58890). Because the domestic interested parties did not participate in these sunset reviews, the Department is revoking these antidumping duty orders.

EFFECTIVE DATE: November 17, 2004.

FOR FURTHER INFORMATION CONTACT: Hilary Sadler, Esq., Office of Policy, Import Administration, International Trade Administration, U.S. Department of Commerce, 14th Street and Constitution Avenue, NW, Washington, D.C. 20230; telephone: (202) 482-4340.

SUPPLEMENTARY INFORMATION:

Scope

For purposes of these sunset reviews, the product covered is urea, a high-nitrogen content fertilizer which is produced by reacting ammonia with carbon dioxide. The product is currently classified under the Harmonized Tariff Schedules of the United States (“HTSUS”) item 3102.10.0000. Although the HTSUS subheading is provided for convenience and customs purposes, the written description of the merchandise is dispositive.

Background

On July 14, 1987, the Department issued an antidumping duty order on solid urea from the Union of Soviet Socialist Republics (“USSR”) (52 FR 26367). In December 1991, the USSR divided into 15 republics. In response to the dissolution, the Department transferred the original order to all 15 republics and applied a uniform cash deposit rate. See Solid Urea from the Union of Soviet Socialist Republics; Transfer of the Antidumping Duty Order on Solid Urea From the Union of Soviet Socialist Republics to the Commonwealth of Independent States and the Baltic States and Opportunity to Comment, 57 FR 28828 (June 29, 1992).

In March 1999, the Department initiated sunset reviews on these orders and later published its notice of continuation of the antidumping duty orders. See Continuation of Antidumping Duty Orders: Solid Urea From Armenia, Belarus, Estonia, Lithuania, Romania, Russia, Tajikistan, Turkmenistan, Ukraine, and Uzbekistan, 64 FR 62653 (November 17, 1999). Pursuant to section 751(c) of the Act and 19 CFR 351.218, the Department initiated the sunset reviews of these orders, excluding Armenia, by publishing the notice of the initiation in the Federal Register, 69 FR 58890 (October 1, 2004). In addition, as a courtesy to interested parties, the Department sent letters, via certified and registered mail, to each party listed on the Department's most current service list for these proceedings to inform them of the automatic initiation of the sunset reviews of the orders.

We received a waiver from domestic interested parties by the deadline dates. See 19 CFR 351.218(d)(1)(iii)(A) and Waiver of the Domestic Interested Parties (October 18, 2004). As a result, the Department determined that no domestic interested party intends to participate in the sunset reviews, and on October 21, 2004, we notified the International Trade Commission, in writing, that we intended to issue a final determination revoking these antidumping duty orders. See 19 CFR 351.218(d)(1)(iii)(B)(2).

Determination to Revoke

Pursuant to section 751(c)(3)(A) of the Act and 19 CFR 351.218(d)(1)(iii)(B)(3), if no domestic interested party files a notice of intent to participate, the Department shall issue a final determination, within 90 days after the initiation of the review, revoking an order. Because the domestic interested parties waived their right to participate in the sunset reviews, the Department finds that no domestic interested party is participating in these sunset reviews. Therefore, consistent with 19 CFR 351.222(i)(2)(i) and section 751(c)(6)(A)(iii) of the Act, we are revoking these antidumping duty orders effective November 17, 2004, the fifth anniversary of the date the Department published the continuation of the antidumping duty orders.

Effective Date of Revocation

Pursuant to sections 751(c)(3)(A) and 751(c)(6)(A)(iii) of the Act and 19 CFR 351.222(i)(2)(i), the Department will instruct the U.S. Customs and Border Protection to terminate the suspension of liquidation of the merchandise subject to these orders entered, or withdrawn from warehouse, on or after November 17, 2004. Entries of subject merchandise prior to the effective date of revocation will continue to be subject to suspension of liquidation and antidumping duty deposit requirements. The Department will complete any pending administrative reviews of these orders and will conduct administrative reviews of subject merchandise entered prior to the effective date of revocation in response to appropriately filed requests for review.

These five-year (sunset) reviews and notice are in accordance with sections 751(c) and 777(i)(1) of the Act.

Original Signed.

Dated: December 17, 2004.
James J. Jochum,
Assistant Secretary for Import Administration.

[FR Doc. E4-3873 Filed 12-28-04; 8:45 am]

Billing Code: 3510-DS-S